DEPARTMENT OF THE INTERIOR

Bureau of Land Management

[LLAZG02000.L143000000.EQ0000.TAS:14X1109.241A]

Notice of Relocation of the Bureau of Land Management's Tucson Field Office in Tucson, AZ

AGENCY: Bureau of Land Management, Interior.

ACTION: Notice of relocation.

SUMMARY: This notice announces the relocation of the Bureau of Land Management's (BLM) Tucson Field Office (TFO) and the temporary closure of the office during the relocation.

FOR FURTHER INFORMATION CONTACT: Brian B. Bellew, Field Manager, BLM Tucson Field Office, 12661 East Broadway, Tucson, Arizona 85748, 520-258-7200. Persons who use a telecommunications device for the deaf (TDD) may call the Federal Information Relay Service (FIRS) at 1-800-877-8339 to contact the above individual during normal business hours. The FIRS is available 24 hours a day, 7 days a week, to leave a message or question with the above individual. You will receive a reply during normal business hours.

DATES: Effective April 13, 2012, the relocation begins, and the new office opens Monday, April 16, 2012.

ADDRESSES: The new BLM Tucson Field Office address will be 3201 East Universal Way, Tucson, Arizona 85756.

SUPPLEMENTARY INFORMATION: Effective at the close of business on April 12, 2012, the BLM TFO will close for the purpose of relocating. The Field Office provides access to and inspection of the official Public Records of the Federal government, and the serialized case files of active land, mineral, and grazing transactions for the TFO area. The office will reopen at its new address at 3201 East Universal Way, Tucson, Arizona 85756, at 8 a.m. on Monday, April 16, 2012. The BLM TFO telephone number will remain the same (520-258-7200). Directions to the new BLM TFO office: From I-10 and Valencia Road Exit #267, go west 2.1 miles, then turn left onto South Lisa Frank Avenue, and continue approximately 0.1 mile to East Universal Way, then turn right and proceed 0.1 mile to the new address.

Raymond Suazo,
State Director.

[FR Doc. 2012-9402 Filed 4-18-12; 8:45 am]

BILLING CODE 4130-32-P